NATIONAL FOUNDATION ON THE ARTS AND THE HUMANITIES

Meetings of Humanities Panel

AGENCY: National Endowment for the Humanities.

ACTION: Notice of meetings.

SUMMARY: The National Endowment for the Humanities will hold three meetings of the Humanities Panel, a federal advisory committee, during January, 2018. The purpose of the meetings is for panel review, discussion, evaluation, and recommendation of applications for financial assistance under the National Foundation on the Arts and Humanities Act of 1965.

DATES: See Supplementary Information section for meeting dates. The meetings will open at 8:30 a.m. and will adjourn by 5:00 p.m. on the dates specified below.

ADDRESSES: Please see SUPPLEMENTARY INFORMATION for locations.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: January 8, 2018.

This meeting will discuss applications for Next Generation Humanities Ph.D.: Planning Grants, submitted to the Division of Education Programs. The meeting will be held at the NEH offices at 400 7th Street SW, Washington, DC 20506.

2. Date: January 18, 2018.

This meeting will discuss applications on the subjects of the Americas and Europe: History, Social Sciences, Literature, and Studies Linguistics, for Kluge Fellowships, submitted to the Division of Research Programs. The meeting will be held at The Library of Congress, Jefferson Building, 10 First Street SE, RoomLJ-220, Washington, DC 20540.

2. Date: January 22, 2018.

This meeting will discuss applications on the subjects of Africa, Asia, and Europe: History, Social Sciences, Literature, and Studies for Kluge Fellowships, submitted to the Division of Research Programs. The meeting will be held at The Library of Congress, Jefferson Building, 10 First Street SE, Room LJ-220, Washington, DC 20540.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: December 11, 2017.
Elizabeth Voyatzis,
Committee Management Officer.

[FR Doc. 2017-26965 Filed 12-13-17; 8:45 am]

BILLING CODE 7536-01-P